SECURITIES AND EXCHANGE COMMISSION

[Release No. 34-55220]

Order Cancelling Registrations of Certain Transfer Agents

February 1, 2007.

On October 26, 2006, notice was published in the Federal Register that the Securities and Exchange Commission (“Commission”) intended to issue an order, pursuant to Section 17A(c)(4)(B) of the Securities Act of 1934 (“Act”),¹ cancelling the registrations of the transfer agents whose names appeared in the attached Appendix.² For the reasons discussed below, the Commission is cancelling the registration of the transfer agents identified in the attached Appendix.

¹ 15 U.S.C. 78q-1(c)(4)(B).

² Securities Exchange Act Release No. 54633 (October 20, 2006), 71 FR 62631.

FOR FURTHER INFORMATION CONTACT: Jerry W. Carpenter, Assistant Director, or Catherine Moore, Special Counsel, at (202)551-5710, Division of Market Regulation, Securities and Exchange Commission, 100 F Street, NE., Washington, DC 20549-6628.

Background

Section 17A(c)(4)(B) of the Act provides that if the Commission finds that any transfer agent registered with the Commission is no longer in existence or has ceased to do business as a transfer agent, the Commission shall by order cancel that transfer agent's registration. On October 26, 2006, the Commission published notice of its intention to cancel the registration of certain transfer agents whom it believed were no longer in existence or had ceased to do business as transfer agents.

In the notice the Commission identified 45 such transfer agents and stated that at any time after November 27, 2006, which was 30 days after the notice was published in the Federal Register, the Commission intended to issue an order canceling the registrations of any or all of the identified transfer agents. One of the identified transfer agents contacted the Commission to object to the cancellation of its registration because it states that it has not ceased to do business as a transfer agent. The Commission has decided not to cancel the registration of this transfer agent at this time in order to conduct further inquiry. One other transfer agent contacted the Commission regarding the cancellation of its registration but did not object after it was informed that it had more than one registration number and that the Commission intended to cancel only its inactive registration number. None of the remaining 43 identified transfer agents contacted the Commission to object to the cancellation of their registrations.

Accordingly, the Commission is cancelling the registration of each of the 44 transfer agents identified in the Appendix attached to this Order.

Order

On the basis of the foregoing, the Commission finds that each of the transfer agents whose name appears in the attached Appendix either is no longer in existence or has ceased doing business as a transfer agent.

It is therefore ordered pursuant to Section 17A(c)(4)(B) of the Act that the registration as a transfer agent of each of the transfer agents whose name appears in the attached Appendix be and hereby is cancelled.

For the Commission by the Division of Market Regulation pursuant to delegated authority.³
³ 17 CFR 200.30-3(a)(22).
Florence E. Harmon,
Deputy Secretary.

Appendix
Registration number | Name
84-0019 | LG & E Energy Corp.
84-0548 | American Bancservices Inc.
84-0711 | Niagara Mohawk Power Corp.
84-0904 | Pfizer Inc.
84-1257 | BNY Clearing Services LLC.
84-1663 | Merrill Lynch Investment Partners Inc.
84-1735 | Alpha Tech Stock Transfer Trust.
84-1737 | Declaration Service Company.
84-1828 | Consumers Financial Corp.
84-1923 | WOC Stock Transfer Company, Inc.
84-5494 | Metropolitan Martage and Securities Co., Inc.
84-5550 | Cinergy Service, Inc.
84-5606 | Sunstates Corporation.
84-5647 | Penn Street Advisors, Inc.
84-5694 | Khan Funds.
84-5720 | Bulto Transfer Agency, Limited Liability Company.
84-5727 | Impact Administrative Service, Inc.
84-5754 | Alpine Fiduciary Services, Inc.
84-5755 | River Oaks Partnership Services, Inc.
84-5756 | IDM Corporation.
84-5773 | RVM Industries, Inc.
84-5812 | Stock Transfer of America, Inc.
84-5816 | Wasatch Stock Transfer, Inc.
84-5826 | Lewis, Corey L.
84-5847 | Financial Strategies, LLC.
84-5872 | D-Lanz Development Group, Inc.
84-5873 | CBIZ Retirement Services, Inc.
84-5885 | Sovereign Depository Corporation.
84-5897 | Newport Stock Transfer Agency, Inc.
84-5899 | U.S. Corporate Support Services, Inc.
84-5912 | Femis Kerger & Company Transfer Agent & Registrar.
84-6019 | Touch America.
84-6032 | Merge Media, Inc.
84-6034 | Chapman Capital Management, Inc.
84-6039 | First Financial Escrow & Transfer, Inc.
84-6045 | Pharmacy Buying Association, Inc.
84-6059 | Street Transfer & Registrar Agency.
84-6077 | Brown Brothers Harriman & Co.
84-6092 | Brookhill Stock Transfer Business Trust.
84-6097 | Certified Water Systems, Inc.
84-6101 | Lauries Happy Thoughts, Inc.
84-6126 | Fidelity Custodian Services, Inc.
84-6131 | Carolyn Plant.
84-6157 | Encompass Corporate Services.

[FR Doc. E7-2245 Filed 2-9-07; 8:45 am]

BILLING CODE 8010-01-P